DEPARTMENT OF COMMERCE

International Trade Administration

[A-533-810]

Stainless Steel Bar From India; Notice of Extension of Time Limit for Preliminary Results of Antidumping Duty New Shipper Review

AGENCY: Import Administration, International Trade Administration, Department of Commerce

ACTION: Notice of Extension of Time Limit for Preliminary Results of Antidumping Duty New Shipper Review: Stainless Steel Bar from India.

SUMMARY: The Department of Commerce is extending the time limit for the preliminary results of the new shipper review of the antidumping duty order on stainless steel bar from India. The period of review is February 1, 2001, through July 31, 2001.

DATES: April 8, 2002.

FOR FURTHER INFORMATION CONTACT: Cole Kyle, Office 1, Import Administration, International Trade Administration, U.S. Department of Commerce, 14th Street and Constitution Avenue, N.W., Washington D.C. 20230; telephone (202) 482-1503.

The Applicable Statute and Regulations

Unless otherwise indicated, all citations to the statute are references to the provisions effective January 1, 1995, the effective date of the amendments made to the Tariff Act of 1930 (“the Act”) by the Uruguay Round Agreements Act (URAA). In addition, unless otherwise indicated, all citations to the Department of Commerce's (“the Department's”) regulations refer to 19 CFR Part 351, April 2001.

Background

On October 23, 2001, the Department published a notice of initiation of a new shipper review of the antidumping duty order on stainless steel bar from India, covering the period February 1, 2001 through July 31, 2001 (66 FR 53585). The preliminary results for the antidumping duty new shipper review of stainless steel bar from India are currently due no later than April 15, 2002.

Statutory Time Limits

Section 751(a)(2)(B) of the Act requires the Department to issue the preliminary results of a review of a new exporter or producer within 180 days after the date on which the review is initiated and a final determination within 90 days after the date the preliminary determination is issued. However, section 751(a)(2)(B)(iv) allows the Department to extend the 180-day period to 300 days and the 90-day period to 150 days, if we determine the case is extraordinarily complicated.

Extension of Time Limit for Preliminary Results

There is a pending request from the petitioners that the Department initiate a sales below cost investigation in this proceeding. Due to the complexity of cost issues and the potential need to request full cost of production information from the respondent, we find that this case is extraordinarily complicated and the preliminary results cannot be completed within the time limit currently mandated by section 751 (a)(2)(B) (i.e., April 15, 2002). Therefore, in accordance with section 751(a)(2)(B) of the Act and 19 CFR 351.214(h)(2), the Department is extending the time limit for completion of the preliminary results by 120 days (i.e., until August 13, 2002).

We are issuing and publishing this notice in accordance with sections 751(a)(2)(B) and 777(i)(1) of the Act.

Dated: April 2, 2002.
Richard Moreland,
Deputy Assistant Secretary for AD/CVD Enforcement I.

[FR Doc. 02-8443 Filed 4-5-02; 8:45 am]

BILLING CODE 3510-DS-S